DEPARTMENT OF ENERGY

Federal Energy Regulatory Commission

Combined Notice of Filings #1

Take notice that the Commission received the following exempt wholesale generator filings:

Docket Numbers: EG24-5-000.

Applicants: Ben Milam Solar 1 LLC.

Description: Ben Milam Solar 1 LLC submits Notice of Self-Certification of Exempt Wholesale Generator Status.

Filed Date: 10/13/23.

Accession Number: 20231013-5073.

Comment Date: 5 p.m. ET 11/3/23.

Docket Numbers: EG24-6-000.

Applicants: Ben Milam Solar 3 LLC.

Description: Ben Milam Solar 3 LLC submits Notice of Self-Certification of Exempt Wholesale Generator Status.

Filed Date: 10/13/23.

Accession Number: 20231013-5078.

Comment Date: 5 p.m. ET 11/3/23.

Take notice that the Commission received the following electric rate filings:

Docket Numbers: ER23-2130-001; ER23-2133-001.

Applicants: PGR 2022 Lessee 9, LLC, Glover Creek Solar, LLC.

Description: Notice of Non-Material Change in Status of Glover Creek Solar, LLC, et. al.

Filed Date: 10/11/23.

Accession Number: 20231011-5194.

Comment Date: 5 p.m. ET 11/1/23.

Docket Numbers: ER24-84-000.

Applicants: Arizona Public Service Company.

Description: Notice of Cancellation of Firm Point-to-Point Transmission Service Agreement of Arizona Public Service Company.

Filed Date: 10/10/23.

Accession Number: 20231010-5401.

Comment Date: 5 p.m. ET 10/31/23.

Docket Numbers: ER24-85-000.

Applicants: AEP Texas Inc.

Description: § 205(d) Rate Filing: AEPTX-231RC 8ME (Norton Solar) 1st Amended Generation Interconnection Agreement to be effective 9/19/2023.

Filed Date: 10/12/23.

Accession Number: 20231012-5126.

Comment Date: 5 p.m. ET 11/2/23.

Docket Numbers: ER24-86-000.

Applicants: EFS Parlin Holdings, LLC.

Description: Tariff Amendment: Cancellation partial tariff MBR to be effective 10/31/2023.

Filed Date: 10/12/23.

Accession Number: 20231012-5131.

Comment Date: 5 p.m. ET 11/2/23.

Docket Numbers: ER24-87-000.

Applicants: EFS Parlin Holdings, LLC.

Description: Tariff Amendment: Cancellation partial tariff Reactive rates to be effective 10/31/2023.

Filed Date: 10/12/23.

Accession Number: 20231012-5133.

Comment Date: 5 p.m. ET 11/2/23.

Docket Numbers: ER24-88-000.

Applicants: AEP Texas Inc.

Description: § 205(d) Rate Filing: AEPTX-Starr Solar Ranch 1 2nd Amended Generation Interconnection Agreement to be effective 9/19/2023.

Filed Date: 10/12/23.

Accession Number: 20231012-5134.

Comment Date: 5 p.m. ET 11/2/23.

Docket Numbers: ER24-89-000.

Applicants: PJM Interconnection, L.L.C.

Description: § 205(d) Rate Filing: Original ISA, Service Agreement No. 7097; Queue No. AE1-113/AE2-255 to be effective 9/13/2023.

Filed Date: 10/13/23.

Accession Number: 20231013-5031.

Comment Date: 5 p.m. ET 11/3/23.

Docket Numbers: ER24-90-000.

Applicants: ISO New England Inc.

Description: § 205(d) Rate Filing: ISO New England Inc.; 2024 Capital Budget for Recovery of 2024 Admin. Costs to be effective 1/1/2024.

Filed Date: 10/13/23.

Accession Number: 20231013-5041.

Comment Date: 5 p.m. ET 11/3/23.

Docket Numbers: ER24-91-000.

Applicants: ISO New England Inc.

Description: § 205(d) Rate Filing: ISO-NE; Filing of Rev. Tariff Sheet for Recovery for 2024 Operation of NESCOE to be effective 1/1/2024.

Filed Date: 10/13/23.

Accession Number: 20231013-5050.

Comment Date: 5 p.m. ET 11/3/23.

Docket Numbers: ER24-92-000.

Applicants: Metropolitan Edison Company, PJM Interconnection, L.L.C.

Description: § 205(d) Rate Filing: Metropolitan Edison Company submits tariff filing per 35.13(a)(2)(iii): Met-Ed Amends 10 ECSAs (5650 5659 5702 5711 5720 5774 5777 5779 5780 5781) to be effective 12/31/9998.

Filed Date: 10/13/23.

Accession Number: 20231013-5055.

Comment Date: 5 p.m. ET 11/3/23.

Docket Numbers: ER24-93-000.

Applicants: Ameren Transmission Company of Illinois.

Description: § 205(d) Rate Filing: Fiber Agreement of ATXI and WVPA to be effective 12/15/2023.

Filed Date: 10/13/23.

Accession Number: 20231013-5080.

Comment Date: 5 p.m. ET 11/3/23.

Docket Numbers: ER24-94-000.

Applicants: ISO New England Inc.

Description: ISO New England Inc. submits Capital Budget Quarterly Filing for Third Quarter of 2023.

Filed Date: 10/13/23.

Accession Number: 20231013-5084.

Comment Date: 5 p.m. ET 11/3/23.

Docket Numbers: ER24-95-000.

Applicants: New York Independent System Operator, Inc.

Description: Compliance filing: Compliance Filing of Tariff Revisions re: Order No. 895 to be effective 12/31/9998.

Filed Date: 10/13/23.

Accession Number: 20231013-5094.

Comment Date: 5 p.m. ET 11/3/23.

Docket Numbers: ER24-96-000.

Applicants: Pacific Gas and Electric Company.

Description: § 205(d) Rate Filing: Transmission Owner Rate Case TO21 Formula Rate to be effective 1/1/2024.

Filed Date: 10/13/23.

Accession Number: 20231013-5108.

Comment Date: 5 p.m. ET 11/3/23.

Docket Numbers: ER24-97-000.

Applicants: Kaiser Aluminum Washington, LLC.

Description: Baseline eTariff Filing: Initial MBR Tariff FIling to be effective 11/27/2023.

Filed Date: 10/13/23.

Accession Number: 20231013-5112.

Comment Date: 5 p.m. ET 11/3/23.

Docket Numbers: ER24-98-000.

Applicants: PJM Interconnection, L.L.C.

Description: § 205(d) Rate Filing: Enhancements to Market Seller Offer Cap, Capacity Performance and EAS Revenues to be effective 12/12/2023.

Filed Date: 10/13/23.

Accession Number: 20231013-5141

Comment Date: 5 p.m. ET 11/3/23.

Docket Numbers: ER24-99-000.

Applicants: PJM Interconnection, L.L.C.

Description: § 205(d) Rate Filing: Capacity Market Reforms to Accommodate the Energy Transition to be effective 12/12/2023.

Filed Date: 10/13/23.

Accession Number: 20231013-5157.

Comment Date: 5 p.m. ET 11/3/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 13, 2023.
Debbie-Anne A. Reese,
Deputy Secretary.

[FR Doc. 2023-23093 Filed 10-18-23; 8:45 am]

BILLING CODE 6717-01-P